DEPARTMENT OF LABOR

Employment and Training Administration

[TA-W-71,634]

Yale Industrial Trucks-PGH, Inc. Monroeville, PA; Notice of Negative Determination Regarding Application for Reconsideration

By application received March 16, 2010, a petitioner requested administrative reconsideration of the Department's negative determination regarding eligibility to apply for Trade Adjustment Assistance (TAA), applicable to workers and former workers of the subject firm. The Department's Notice of determination was issued on March 3, 2010 and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination of the TAA petition filed on behalf of workers at Yale Industrial Trucks-PGH, Inc., Monroeville, Pennsylvania, was based on the findings that: The subject firm had not shifted abroad forklift truck sales and maintenance services or imported forklift truck sales and maintenance services during the relevant period; the declining customers of the subject firm had not obtained truck sales and maintenance services from foreign firms during the relevant period; and the workers did not produce an article or supply a service that was used by a firm with TAA-certified workers in the production of an article or supply of a service that was the basis for TAA-certification.

The petitioner stated that the workers of the subject firm should be eligible for TAA because some of that firm's largest customers, who are TAA-certified, have cut back production in some plants and shut down production at other plants because of foreign steel imports and have consequently sent back a large number of the fork lift trucks leased and serviced by the subject firm. Moreover, the petitioner alleged that there were many fork lift truck companies selling foreign-made fork lift trucks.

The initial investigation revealed that the secondary certification that the petitioner is seeking is not possible because the subject firm provided tools and related services used in production but not component parts, as required by Section 222(d) of the Act, 19 U.S.C. 2272(d).

Furthermore, during the initial investigation the Department surveyed the subject firm's major declining customers regarding their purchases of forklift trucks and maintenance services during the relevant period. The survey revealed no imports of forklift trucks or related maintenance services.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 1st day of April, 2010.
Del Min Amy Chen,
Certifying Officer, Division of Trade Adjustment Assistance.

[FR Doc. 2010-8874 Filed 4-16-10; 8:45 am]

BILLING CODE 4510-FN-P